DEPARTMENT OF AGRICULTURE

Forest Service

Coconino Resource Advisory Committee

AGENCY: Forest Service, USDA.

ACTION: Notice of meeting.

SUMMARY: The Coconino Resource Advisory Committee will meet in Flagstaff, Arizona. The purpose of the meeting is to receive training on Resource Advisory Committees and National Environmental Policy Act, Travel Reimbursement procedures, establish proposal meeting dates, and proposal outreach. No proposals will be heard at this meeting.

DATES: The meeting will be held October 28, 2010, beginning at 1 p.m. to approximately 4 p.m.

ADDRESSES: The meeting will be held in the Ponderosa Room of the Coconino County Health Department, 2625 N. King St., Flagstaff, Arizona 86004. Send written comments to Brady Smith, RAC Coordinator, Coconino Resource Advisory Committee, c/o Forest Service, USDA, 1824 S. Thompson St., Flagstaff, Arizona 86001 or electronically to bradysmith@fs.fed.us.

FOR FURTHER INFORMATION CONTACT: Brady Smith, Coconino National Forest, (928) 527-3490.

SUPPLEMENTARY INFORMATION: Agenda items for this meeting include discussion about (1) Training about Resource Advisory Committees; (2) Training about National Environmental Policy Act; (3) Travel Reimbursement procedures; (4) Options for project proposal outreach. The meeting is open to the public.

Dated: September 30, 2010.
M. Earl Stewart,
Forest Supervisor, Coconino National Forest.

[FR Doc. 2010-25219 Filed 10-5-10; 8:45 am]

BILLING CODE 3410-11-P